NATIONAL COMMISSION ON LIBRARIES AND INFORMATION SCIENCE

The U.S. National Commission on Libraries and Information Science (NCLIS) Sunshine Act Meeting

Friday, September 15, 2000—1:00-4:30 p.m.

The Madison Hotel, 15th and M Streets, NW, (Mt. Vernon Room), Washington, DC.

MATTERS TO BE DISCUSSED:

Administrative matters

Chairperson's report

Executive Director's report

Library Services and Technology Act (LSTA) Reauthorization

International Federation of Library Associations and Institutions (IFLA) 2001

NCLIS 30th anniversary celebration

NCLIS committees/programs/projects update

Commissioner activity report

To request further information or to make special arrangements for persons with disabilities, contact Barbara Whiteleather (telephone: 202-606-9200; fax: 202-606-9203; e-mail: bwhiteleather@nclis.gov) no later than one week in advance of the meeting.

Dated: August 24, 2000.
Robert S. Willard,
NCLIS Executive Director.

[FR Doc. 00-22841 Filed 8-31-00; 3:49 pm]

BILLING CODE 7527-$$-M